DEPARTMENT OF LABOR

Employment and Training Administration

[TA-W-53,366]

Zinisar Corporation, Sunnyvale, CA; Notice of Termination of Investigation

Pursuant to section 221 of the Trade Act of 1974, as amended, an investigation was initiated on October 28, 2003, in response to a petition filed on behalf of workers at Zinisar Corporation, Sunnyvale, California.

This petition is a duplicate of an ongoing investigation for workers for Zinisar Corporation, Sunnyvale, California, petition number TA-W-53,290. Consequently, further investigation would serve no purpose, and the investigation has been terminated.

Signed at Washington, DC this 30th day of October, 2003.
Linda G. Poole,
Certifying Officer, Division of Trade Adjustment Assistance.

[FR Doc. 03-29384 Filed 11-24-03; 8:45 am]

BILLING CODE 4510-30-P